DEPARTMENT OF DEFENSE

Office of the Secretary

Board of Visitors Meeting

AGENCY: Department of Defense.

ACTION: Defense Acquisition University Board of Visitors Meeting.

SUMMARY: The next meeting of the Defense Acquisition University (DAU) Board of Visitors (BoV) will be held at Defense Acquisition University, Mid-Atlantic Region, California, MD. The purpose of this meeting is to report back to the BoV on continuing items of interest.

DATES: September 26, 2007 from 0900-1500.

ADDRESSES: 23330 Cottonwood Parkway, Suite 200, California, MD 20619.

FOR FURTHER INFORMATION CONTACT: Ms. Christen Goulding at 703-805-5134.

SUPPLEMENTARY INFORMATION: The meeting is open to the public; however, because of space limitations, allocation of seating will be made on a first-come, first served basis. Persons desiring to attend the meeting should call Ms. Christen Goulding at 703-805-5134.

Dated: September 4, 2007.
C.R. Choate,
Alternate OSD Federal Register Liaison Officer, Department of Defense.

[FR Doc. 07-4407 Filed 9-07-07; 8:45 am]

BILLING CODE 5001-06-M